DEPARTMENT OF HOMELAND SECURITY

Federal Emergency Management Agency

[Docket ID FEMA-2023-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65.

The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Nicholas A. Shufro,
Deputy Assistant Administrator for Risk Management, Federal Emergency Management Agency, Department of Homeland Security.

State and county | Location and case No. | Chief executive officer of community | Community map repository | Date of modification | Community No.
California: Ventura (FEMA Docket No.: B-2352) | City of Thousand Oaks (23-09-0130P). | The Honorable Kevin McNamee, Mayor, City of Thousand Oaks, 2100 Thousand Oaks Boulevard, Thousand Oaks, CA 91362. | Public Works Department, 2100 Thousand Oaks Boulevard, Thousand Oaks, CA 91362. | Sep. 6, 2023 | 060422
Colorado:
Adams (FEMA Docket No.: B-2352) | City of Northglenn (22-08-0686P). | The Honorable Meredith Leighty, Mayor, City of Northglenn, 11701 Community Center Drive, Northglenn, CO 80233. | City Hall, 11701 Community Center Drive, Northglenn, CO 80233. | Sep. 8, 2023 | 080257
Adams (FEMA Docket No.: B-2352) | City of Thornton (22-08-0686P). | The Honorable Jan Kulmann, Mayor, City of Thornton, 9500 Civic Center Drive, Thornton, CO 80229. | City Hall, 9500 Civic Center Drive, Thornton, CO 80229. | Sep. 8, 2023 | 080007
Boulder (FEMA Docket No.: B-2348) | Town of Superior (22-08-0512P). | The Honorable Mark Lacis, Mayor, Town of Superior, 124 East Coal Creek Drive, Superior, CO 80027. | Town Hall, 124 East Coal Creek Drive, Superior, CO 80027. | Aug. 28, 2023 | 080203
Broomfield (FEMA Docket No.: B-2348) | City and County of Broomfield (22-08-0512P). | The Honorable Guyleen Castriotta, Mayor, City and County of Broomfield, 1 DesCombes Drive, Broomfield, CO 80020. | Engineering Department, 1 DesCombes Drive, Broomfield, CO 80020. | Aug. 28, 2023 | 085073
Connecticut: Fairfield (FEMA Docket No.: B-2352) | Town of Wilton (22-01-0739P). | Lynne Vanderslice, First Selectperson, Town of Wilton, 238 Danbury Road, Wilton, CT 06897. | Town Hall, 238 Danbury Road, Wilton, CT 06897. | Aug. 25, 2023 | 090020
Delaware: New Castle (FEMA Docket No.: B-2352) | Unincorporated areas of New Castle County (23-03-0350P). | Matthew Meyer, New Castle County Executive, 87 Reads Way, New Castle, DE 19720. | New Castle County Land Use Department, 87 Reads Way, New Castle, DE 19720. | Sep. 7, 2023 | 105085
Florida:
Charlotte (FEMA Docket No.: B-2352) | Unincorporated areas of Charlotte County (22-04-5489P). | Bill Truex, Chair, Charlotte County Board of Commissioners, 18500 Murdock Circle, Suite 536, Port Charlotte, FL 33948. | Charlotte County Building Department, 18400 Murdock Circle, Port Charlotte, FL 33948. | Sep. 6, 2023 | 120061
Monroe (FEMA Docket No.: B-2348) | Unincorporated areas of Monroe County (23-04-1583P). | The Honorable Craig Cates, Mayor, Monroe County Board of Commissioners, 500 Whitehead Street, Suite 102, Key West, FL 33040. | Monroe County Building Department, 2798 Overseas Highway, Suite 300, Marathon, FL 33050. | Aug. 28, 2023 | 125129
Monroe (FEMA Docket No.: B-2361) | Unincorporated areas of Monroe County (23-04-2258P). | The Honorable Craig Cates, Mayor, Monroe County Board of Commissioners, 500 Whitehead Street, Suite 102, Key West, FL 33040. | Monroe County Building Department, 2798 Overseas Highway, Suite 300, Marathon, FL 33050. | Sep. 11, 2023 | 125129
Monroe (FEMA Docket No.: B-2348) | Village of Islamorada (23-04-1953P). | The Honorable Joseph Buddy Pinder III, Mayor, Village of Islamorada, 86800 Overseas Highway, Islamorada, FL 33036. | Building Department, 86800 Overseas Highway, Islamorada, FL 33036. | Sep. 5, 2023 | 120424
Polk (FEMA Docket No.: B-2352) | Unincorporated areas of Polk County (22-04-3447P). | Bill Beasley, Polk County Manager, 330 West Church Street, Bartow, FL 33831. | Polk County Land Development Division, 330 West Church Street, Bartow, FL 33831. | Sep. 7, 2023 | 120261
Sumter (FEMA Docket No.: B-2352) | City of Coleman (22-04-4974P). | The Honorable Milton Hill, Mayor, City of Coleman, P.O. Box 456, Coleman, FL 33521. | Water Department, 3502 East Warm Springs Avenue, Coleman, FL 33521. | Sep. 1, 2023 | 120616
Sumter (FEMA Docket No.: B-2352) | City of Wildwood (22-04-4974P). | The Honorable Ed Wolf, Mayor, City of Wildwood, 100 North Main Street, Wildwood, FL 34785. | City Hall, 100 North Main Street, Wildwood, FL 34785. | Sep. 1, 2023 | 120299
Georgia: Fulton (FEMA Docket No.: B-2348) | City of Hapeville (22-04-5158P). | The Honorable Alan Hallman, Mayor, City of Hapeville, 3468 North Fulton Avenue, Hapeville, GA 30354. | Public Services Department, 3474 North Fulton Avenue, Hapeville, GA 30354. | Aug. 24, 2023 | 130502
Massachusetts:
Barnstable (FEMA Docket No.: B-2352) | Town of Falmouth (23-01-0305P). | Nancy R. Taylor, Chair, Town of Falmouth Select Board, 59 Town Hall Square, Falmouth, MA 02540. | Building Department, 59 Town Hall Square, Falmouth, MA 02540. | Sep. 11, 2023 | 255211
Suffolk (FEMA Docket No.: B-2341) | City of Boston (22-01-0360P). | The Honorable Michelle Wu, Mayor, City of Boston, 1 City Hall Square, Suite 500, Boston, MA 02201. | City Hall, 1 City Hall Square, Suite 500, Boston, MA 02201. | Aug. 25, 2023 | 250286
Mississippi: Hancock (FEMA Docket No.: B-2348) | City of Bay St. Louis (23-04-1766P). | The Honorable Michael Favre, Mayor, City of Bay St. Louis, 688 Highway 90, Bay Saint Louis, MS 39520. | Chiniche Engineering and Surveying, 407 Highway 90, Bay Saint Louis, MS 39520. | Aug. 25, 2023 | 285251
North Carolina: Durham (FEMA Docket No.: B-2348) | Unincorporated areas of Durham County (22-04-5172P). | Brenda Howerton, Chair, Durham County, Board of Commissioners, 101 City Hall Plaza, Durham, NC 27701. | Durham City-County, Planning Department, 101 City Hall Plaza, Durham, NC 27701. | Sep. 1, 2023 | 370085
Pennsylvania:
Dauphin (FEMA Docket No.: B-2352) | Township of South Hanover (22-03-1207P). | Lynn Wuestner, Township of South Hanover Manager, 161 Patriot Way, Hershey, PA 17033. | Township Hall, 161 Patriot Way, Hershey, PA 17033. | Sep. 1, 2023 | 420395
Montgomery (FEMA Docket No.: B-2352) | Township of Upper Dublin (22-03-0783P). | Kurt Ferguson, Township of Upper Dublin Manager, 370 Commerce Drive, Fort Washington, PA 19034. | Community Planning and Zoning Department, 370 Commerce Drive, Fort Washington, PA 19034. | Sep. 11, 2023 | 420708
Tennessee: Hamilton (FEMA Docket No.: B-2352) | Unincorporated areas of Hamilton County (22-04-4850P). | The Honorable Weston Wamp, Mayor, Hamilton County, 625 Georgia Avenue, Chattanooga, TN 37402. | Hamilton County Engineering Department, 1250 Market Street, Suite 3046, Chattanooga, TN 37402. | Aug. 28, 2023 | 470071
Texas:
Bexar (FEMA Docket No.: B-2352) | Unincorporated areas of Bexar County (22-06-1980P). | The Honorable Peter Sakai, Bexar County Judge, 101 West Nueva Street, 10th Floor, San Antonio, TX 78205. | Bexar County Public Works Department, 1948 Probandt Street, San Antonio, TX 78205. | Aug. 28, 2023 | 480035
Collin (FEMA Docket No.: B-2352) | City of Lowry Crossing (22-06-2654P). | The Honorable Bob Petitt, Mayor, City of Lowry Crossing, 1405 South Bridgefarmer Road, Lowry Crossing, TX 75069. | City Hall, 1405 South Bridgefarmer Road, Lowry Crossing, TX 75069. | Aug. 28, 2023 | 481631
Collin (FEMA Docket No.: B-2352) | City of Melissa (22-06-2373P). | The Honorable Jay Northcut, Mayor, City of Melissa, 3411 Barker Avenue, Melissa, TX 75454. | City Hall, 3411 Barker Avenue, Melissa, TX 75454. | Sep. 5, 2023 | 481626
Collin (FEMA Docket No.: B-2361) | Town of Prosper (22-06-2792P). | The Honorable David F. Bristol, Mayor, Town of Prosper, 250 West 1st Street, Prosper, TX 75078. | Town Hall, 250 West 1st Street, Prosper, TX 75078. | Sep. 11, 2023 | 480141
Collin (FEMA Docket No.: B-2352) | Unincorporated areas of Collin County (22-06-2373P). | The Honorable Chris Hill, Collin County Judge, 2300 Bloomdale Road, Suite 4192, McKinney, TX 75071. | Collin County Administration Building, 2300 Bloomdale Road, Suite 4192, McKinney, TX 75071. | Sep. 5, 2023 | 480130
Collin (FEMA Docket No.: B-2352) | Unincorporated areas of Collin County (22-06-2654P). | The Honorable Chris Hill, Collin County Judge, 2300 Bloomdale Road, Suite 4192, McKinney, TX 75071. | Collin County Engineering Department, 4690 Community Avenue, Suite 200, McKinney, TX 75071. | Aug. 28, 2023 | 480130
Dallas (FEMA Docket No.: B-2352) | City of Mesquite (22-06-2973P). | The Honorable Daniel Aleman, Jr., Mayor, City of Mesquite, P.O. Box 850137, Mesquite, TX 75185. | George A. Venner Sr. Municipal Center, 1515 North Galloway Avenue, Mesquite, TX 75149. | Sep. 5, 2023 | 485490
Denton (FEMA Docket No.: B-2348) | City of Justin (22-06-2978P). | The Honorable Elizabeth Woodall, Mayor, City of Justin, P.O. Box 129, Justin, TX 76247. | Department of Development Services, 415 North College Avenue, Justin, TX 76247. | Sep. 1, 2023 | 480778
Denton (FEMA Docket No.: B-2348) | Unincorporated areas of Denton County (22-06-2978P). | The Honorable Andy Eads, Denton County Judge, 1 Courthouse Drive, Suite 3100, Denton, TX 76208. | Denton County Development Services Department, 3900 Morse Street, Denton, TX 76208. | Sep. 1, 2023 | 480774
El Paso (FEMA Docket No.: B-2348) | City of El Paso (22-06-2670P). | The Honorable Oscar Leeser, Mayor, City of El Paso, 300 North Campbell Street, El Paso, TX 79901. | Development Department, 801 Texas Avenue, El Paso, TX 79901. | Sep. 1, 2023 | 480214
El Paso (FEMA Docket No.: B-2348) | Unincorporated areas of El Paso County (22-06-2670P). | The Honorable Ricardo A. Samaniego, El Paso County Judge, 500 East San Antonio Avenue, Suite 301, El Paso, TX 79901. | El Paso County Public Works Department, 800 East Overland Avenue, Suite 200, El Paso, TX 79901. | Sep. 1, 2023 | 480212
Montgomery (FEMA Docket No.: B-2352) | Unincorporated areas of Montgomery County (23-06-0661P). | The Honorable Mark J. Keough, Montgomery County Judge, 501 North Thompson, Suite 401, Conroe, TX 77301. | Montgomery County Alan B. Sadler Commissioners Court Building, 501 North Thompson, Suite 100, Conroe, TX 77301. | Aug. 24, 2023 | 480483
Tarrant (FEMA Docket No.: B-2352) | City of Fort Worth (22-06-2756P). | The Honorable Mattie Parker, Mayor, City of Fort Worth, 200 Texas Street, Fort Worth, TX 76102. | T/PW Engineering Vault, 200 Texas Street, Fort Worth, TX 76102. | Sep. 11, 2023 | 480596
Tarrant (FEMA Docket No.: B-2352) | Unincorporated areas of Tarrant County (22-06-2756P). | The Honorable Tim O'Hare, Tarrant County Judge, 100 East Weatherford Street, Suite 501, Fort Worth, TX 76196. | Tarrant County Administration Building, 100 East Weatherford Street, Fort Worth, TX 76196. | Sep. 11, 2023 | 480582
Travis (FEMA Docket No.: B-2352) | Unincorporated areas of Travis County (22-06-2414P). | The Honorable Andy Brown, Travis County Judge, P.O. Box 1748, Austin, TX 78767. | Travis County Transportation and Natural Resources Department, 700 Lavaca Street, 5th Floor, Austin, TX 78701. | Aug. 28, 2023 | 481026
Virginia:
Loudoun (FEMA Docket No.: B-2348) | City of Leesburg (22-03-0973P). | The Honorable Kelly Burk, Mayor, Town of Leesburg, 25 West Market Street, Leesburg, VA 20176. | Town Hall, 25 West Market Street, Leesburg, VA 20176. | Aug. 28, 2023 | 510091
Prince William (FEMA Docket No.: B-2352) | City of Manassas (22-03-1152P). | W. Patrick Pate, City of Manassas Manager, 9027 Center Street, Manassas, VA 20110. | City Hall, 9027 Center Street, Manassas, VA 20110. | Sep. 1, 2023 | 510122

[FR Doc. 2023-21699 Filed 9-29-23; 8:45 am]

BILLING CODE 9110-12-P